DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Alcohol, Tobacco and Firearms within the Department of the Treasury is soliciting comments concerning the Letterhead Applications and Notices Filed by Brewers.

DATES: Written comments should be received on or before December 18, 2000.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to William H. Foster, Regulations Division, 650 Massachusetts Avenue, NW., Washington, DC 20226, (202) 927-8374.

SUPPLEMENTARY INFORMATION: Title: Letterhead Applications and Notices Filed by Brewers.

OMB Number: 1512-0045.

Form Number: ATF F 5130.10.

Recordkeeping Requirement ID Number: ATF REC 5130/2.

Abstract: The Internal Revenue Code requires brewers to file a notice of intent to operate a brewery. ATF F 5130.10 is similar to a permit and, when approved by ATF, is a brewer's authorization to operate. Letterhead applications and notices are necessary to identify brewery activities so that ATF may insure that proposed operations do not jeopardize Federal revenues. Brewers must keep general required records for ongoing brewery operations for a period of 3 years. However, the brewer must keep certain documents for an indefinite period. Qualifying documents are the permission to operate. So, as long as the brewery is in operation, the brewer must keep the pertinent qualifying documents, including the Brewer's Notice and other notices and applications.

Current Actions: The form has been rewritten in plain language style which makes it more easily understood. Also, the revised form has combined many letterhead instructions and attachments where previously the brewer would have to generate the attachments for the application. The number of breweries has increased substantially but the burden to complete the form has been reduced by 1 hour.

Type of Review: Extension with changes.

Affected Public: Business or other for-profit.

Estimated Number of Respondents: 1,750.

Estimated Time Per Respondent: 3 hours for the form and 30 minutes for notices and applications.

Estimated Total Annual Burden Hours: 9,625.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: October 10, 2000.
William T. Earle,
Assistant Director (Management) CFO.

[FR Doc. 00-26624 Filed 10-16-00; 8:45 am]

BILLING CODE 4810-31-P